DEPARTMENT OF COMMERCE

International Trade Administration

[A-570-106]

Wooden Cabinets and Vanities and Components Thereof From the People's Republic of China: Preliminary Affirmative Determination of Sales at Less Than Fair Value, Postponement of Final Determination and Extension of Provisional Measures

AGENCY: Enforcement and Compliance, International Trade Administration, Department of Commerce.

SUMMARY: The Department of Commerce (Commerce) preliminarily determines that wooden cabinets and vanities and components thereof (wooden cabinets and vanities) from the People's Republic of China (China) are being, or are likely to be, sold in the United States at less than fair value (LTFV). The period of investigation (POI) is July 1, 2018 through December 31, 2018. Interested parties are invited to comment on this preliminary determination.

DATES: Applicable October 9, 2019.

FOR FURTHER INFORMATION CONTACT: Kabir Archuletta, Rachel Greenberg, or Eliza Siordia, AD/CVD Operations, Office V, Enforcement and Compliance, International Trade Administration, U.S. Department of Commerce, 1401 Constitution Avenue NW, Washington, DC 20230; telephone: (202) 482-2593, (202) 482-0652, or (202) 482-3878, respectively.

SUPPLEMENTARY INFORMATION:

Background

This preliminary determination is made in accordance with section 733(b) of the Tariff Act of 1930, as amended (the Act). Commerce published the notice of initiation of this investigation on April 2, 2019.¹ On August 5, 2019, Commerce postponed the preliminary determination of this investigation and the revised deadline is now October 2, 2019.² For a complete description of the events that followed the initiation of this investigation, see the Preliminary Decision Memorandum.³ A list of topics included in the Preliminary Decision Memorandum is included as Appendix II to this notice. The Preliminary Decision Memorandum is a public document and is on file electronically via Enforcement and Compliance's Antidumping and Countervailing Duty Centralized Electronic Service System (ACCESS). ACCESS is available to registered users at https://access.trade.gov, and to all parties in the Central Records Unit, room B8024 of the main Commerce building. In addition, a complete version of the Preliminary Decision Memorandum can be accessed directly at http://enforcement.trade.gov/frn/. The signed and the electronic versions of the Preliminary Decision Memorandum are identical in content.

¹ See Wooden Cabinets and Vanities and Components Thereof from the People's Republic of China: Initiation of Less-Than-Fair-Value Investigation, 84 FR 12587 (April 2, 2019) (Initiation Notice).

² See Wooden Cabinets and Vanities and Components Thereof from the People's Republic of China: Postponement of Preliminary Determination in the Less-Than-Fair-Value Investigation, 84 FR 37988 (August 5, 2019).

³ See Memorandum, “Wooden Cabinets and Vanities and Components Thereof from the People's Republic of China: Decision Memorandum for Preliminary Affirmative Determination of Sales at Less-Than-Fair Value,” dated concurrently with, and hereby adopted by, this notice (Preliminary Decision Memorandum).

Scope of the Investigation

The product covered by this investigation is wooden cabinets and vanities from China. For a complete description of the scope of this investigation, see Appendix I.

Scope Comments

In accordance with the preamble to Commerce's regulations,⁴ the Initiation Notice set aside a period of time for parties to raise issues regarding product coverage (scope).⁵ Certain interested parties commented on the scope of the investigation as it appeared in the Initiation Notice. For a summary of the product coverage comments and rebuttal responses submitted to the record for this investigation, and accompanying discussion and analysis of all comments timely received, see the Preliminary Scope Decision Memorandum.⁶ Commerce is preliminarily modifying the scope language as it appeared in the Initiation Notice. See the revised scope in Appendix I to this notice.

⁴ See Antidumping Duties; Countervailing Duties, Final Rule, 62 FR 27296, 27323 (May 19, 1997).

⁵ See Initiation Notice.

⁶ See Memorandum, “Certain Hardwood Plywood Products from the People's Republic of China: Scope Comments Decision Memorandum for the Preliminary Determinations,” dated October 2, 2019 (Preliminary Scope Decision Memorandum).

Methodology

Commerce is conducting this investigation in accordance with section 731 of the Act. Commerce has calculated export prices in accordance with section 772(a) of the Act. Because China is a non-market economy, within the meaning of section 771(18) of the Act, Commerce has calculated normal value (NV) in accordance with section 773(c) of the Act. In addition, pursuant to section 776(a) and (b) of the Act, Commerce preliminarily has relied on facts otherwise available, with adverse inferences, for Dalian Meisen Woodworking Co., Ltd. (Meisen), certain separate rate applicants, and the China-wide entity. For a full description of the methodology underlying Commerce's preliminary determination, see the Preliminary Decision Memorandum.

Combination Rates

In the Initiation Notice,⁷ Commerce stated that it would calculate producer/exporter combination rates for the respondents that are eligible for a separate rate in this investigation. Policy Bulletin 05.1 describes this practice.⁸ In this investigation, we calculated producer/exporter combination rates for respondents eligible for separate rates.

⁷ See Initiation Notice, 84 FR at 12590-91.

⁸ See Enforcement and Compliance's Policy Bulletin No. 05.1, regarding, “Separate-Rates Practice and Application of Combination Rates in Antidumping Investigations involving Non-Market Economy Countries,” dated April 5, 2005 (Policy Bulletin 05.1), available on Commerce's website at http://enforcement.trade.gov/policy/bull05-1.pdf.

Preliminary Determination

Commerce preliminarily determines that the following estimated weighted-average dumping margins exist:

Exporter | Producer | Estimated weighted- average dumping margin (percent) | Cash deposit rate (adjusted for subsidy offsets) (percent)
The Ancientree Cabinet Co., Ltd | The Ancientree Cabinet Co., Ltd | 4.49 | 0.00
Dalian Meisen Woodworking Co., Ltd | Dalian Meisen Woodworking Co., Ltd | 262.18 | 251.64
Foremost Worldwide Company Limited | Rizhao Foremost Woodwork Manufacturing Company, Ltd | 80.96 | 70.42
Foremost Worldwide Company Limited | Henan AiDiJia Furniture Co., Ltd | 80.96 | 70.42
Foremost Worldwide Company Limited | Suzhou Weiye Furniture Co., Ltd | 80.96 | 70.4
Foremost Worldwide Company Limited | Changsha Minwan Furniture Manufacturing Co., Ltd | 80.96 | 70.4
ANHUI JIANLIAN WOOD PRODUCTS CO., LTD | ANHUI JIANLIAN WOOD PRODUCTS CO., LTD& | 39.25 | 28.7
Anhui Swanch Cabinetry Co., Ltd | Anhui Swanch Cabinetry Co., Ltd | 39.25 | 28.71
ANHUI XINYUANDA CUPBOARD CO., LTD | ANHUI XINYUANDA CUPBOARD CO., LTD | 39.25 | 28.71
Beijing Oulu Jinxin International Trade Co., Ltd | Beijing Oulu Jinxin International Trade Co., Ltd | 39.25 | 28.71
Boloni Smart Home Decor (Beijing) Co., LTD | Boloni Smart Home Decor (Beijing) Co., LTD | 39.25 | 28.71
Caoxian Brothers Hengxin Wood Industry Co., Ltd | Caoxian Brothers Hengxin Wood Industry Co., Ltd | 39.25 | 28.71
Changyi Zhengheng Woodwork Co., Ltd | Changyi Zhengheng Woodwork Co., Ltd | 39.25 | 28.71
CHAOZHOU YAFENG BATHROOM EQUIPMENT CO., LTD | CHAOZHOU YAFENG BATHROOM EQUIPMENT CO., LTD | 39.25 | 28.71
China Friend Limited | Dongming Sanxin Wood Industry Co., Ltd | 39.25 | 28.71
Dalian Jiaye Wood Products Co., Ltd | Dalian Jiaye Wood Products Co., Ltd | 39.25 | 28.71
Dalian Xingsen Wooden Products Co., Ltd | Dalian Xingsen Wooden Products Co., Ltd | 39.25 | 28.71
Dandong City Anmin Wooden Products Group Co., Ltd | Dandong City Anmin Wooden Products Group Co., Ltd | 39.25 | 28.71
Dandong Laroyal Cabinetry Co., Ltd | Dandong Laroyal Cabinetry Co., Ltd | 39.25 | 28.71
DEHK LIMITED | DIAM DISPLAY (CHINA) CO., LTD | 39.25 | 28.71
Deqing China-Africa Foreign Trade Port Co., Ltd | Suqian Welcomewood Products Co., Ltd | 39.25 | 28.71
Dewell Wooden Products Haian Co., Ltd | Dewell Wooden Products Haian Co., Ltd | 39.25 | 28.71
Dongguan American Parts Supplier Co., Ltd | Dongguan American Parts Supplier Co., Ltd | 39.25 | 28.71
Dongguan Niusaiqu Wood Industry Co., Ltd | Dongguan Niusaiqu Wood Industry Co., Ltd | 39.25 | 28.71
Dongguan Unique Life Furniture Co., Ltd. also known as Unique Life Furniture Co., Ltd (trade name) | Dongguan Unique Life Furniture Co., Ltd | 39.25 | 28.71
Dorbest Ltd | Rui Feng Woodwork (Dongguan) Co., Ltd | 39.25 | 28.71
EZIDONE DISPLAY CORPORATION LTD | EZIDONE DISPLAY CORPORATION LTD | 39.25 | 28.71
EZIDONE DISPLAY CORPORATION LTD | EZIDONE DISPLAY INC | 39.25 | 28.71
Forcer International Limited | QUFU XINYU FURNITURE CO., LTD | 39.25 | 28.71
Forcer International Limited | LINYI RUNKANG CABINET CO., LTD | 39.25 | 28.71
Forcer International Limited | BEIJING OULU JINXIN INTERNATIONAL TRADE CO., LTD | 39.25 | 28.71
Foshan City Shunde District Refined Furniture Co., Ltd. also known as Refined Furniture Co., Ltd. (trade name) | Foshan City Shunde District Refined Furniture Co., Ltd. also known as Refined Furniture Co., Ltd. (trade name) | 39.25 | 28.71
Foshan Liansu building material Trading Co., Ltd | Guangdong Lesso Home Furnishing Co., Ltd | 39.25 | 28.71
FOSHAN NANHAI HONGZHOU WOOD CO., LTD | FOSHAN NANHAI HONGZHOU WOOD CO., LTD | 39.25 | 28.71
Foshan Shunde Yajiasi Kitchen Cabinet Co., Ltd | Foshan Shunde Yajiasi Kitchen Cabinet Co., Ltd | 39.25 | 28.71
FOSHAN SOURCEVER (CN) CO., LIMITED | FOSHAN DIBIAO BATHROOM CO., LTD | 39.25 | 28.71
FOSHAN SOURCEVER (CN) CO., LIMITED | FOSHAN MK HOME FURISHING CO., LTD | 39.25 | 28.71
FOSHAN SOURCEVER (CN) CO., LIMITED | PROUDER INDUSTRIAL LIMITED | 39.25 | 28.71
FOSHAN SOURCEVER (CN) CO., LIMITED | FOSHAN DEMAX SANITARY WARE CO., LTD | 39.25 | 28.71
FOSHAN SOURCEVER (CN) CO., LIMITED | HEBEI SHUANGLI FURNITURE CO., LTD | 39.25 | 28.71
FOSHAN SOURCEVER (CN) CO., LIMITED | ZHANGZHOU GUOHUI INDUSTRIAL & TRADE CO., LTD | 39.25 | 28.71
FOSHAN SOURCEVER (CN) CO., LIMITED | SHOUGUANG FUSHI WOOD CO., LTD | 39.25 | 28.71
FOSHAN SOURCEVER (CN) CO., LIMITED | Foshan Virtu Bathroom Furniture Ltd | 39.25 | 28.71
FOSHAN SOURCEVER (CN) CO., LIMITED | Guangdong Purefine Kitchen & Bath Technology Co., LTD | 39.25 | 28.71
FOSHAN SOURCEVER (CN) CO., LIMITED | KAIPING HONGITARYWARE TECHNOLOGY LTD | 39.25 | 28.71
Foshan Sourcever Company Limited | FOSHAN DIBIAO BATHROOM CO., LTD | 39.25 | 28.71
Foshan Sourcever Company Limited | FOSHAN MK HOME FURISHING CO., LTD | 39.25 | 28.71
Foshan Sourcever Company Limited | PROUDER INDUSTRIAL LIMITED | 39.25 | 28.71
Foshan Sourcever Company Limited | FOSHAN DEMAX SANITARY WARE CO., LTD | 39.25 | 28.71
Foshan Sourcever Company Limited | HEBEI SHUANGLI FURNITURE CO., LTD | 39.25 | 28.71
Foshan Sourcever Company Limited | ZHANGZHOU GUOHUI INDUSTRIAL & TRADE CO., LTD | 39.25 | 28.71
Foshan Sourcever Company Limited | SHOUGUANG FUSHI WOOD CO., LTD | 39.25 | 28.71
Foshan Sourcever Company Limited | Foshan Virtu Bathroom Furniture Ltd | 39.25 | 28.71
Foshan Sourcever Company Limited | Guangdong Purefine Kitchen & Bath Technology Co., LTD | 39.25 | 28.71
Foshan Sourcever Company Limited | KAIPING HONGITARYWARE TECHNOLOGY LTD | 39.25 | 28.71
Foshan Xinzhongwei Economic & Trade Co., Ltd | Foshan Lihong Furniture Sanitary Ware Co., Ltd | 39.25 | 28.71
FUJIAN DUSHI WOODEN INDUSTRY CO., LTD | FUJIAN DUSHI WOODEN INDUSTRY CO., LTD | 39.25 | 28.71
FUJIAN LEIFENG CABINETRY CO., LTD | FUJIAN LEIFENG CABINETRY CO., LTD | 39.25 | 28.71
Fujian Panda Home Furnishing Co., Ltd | Fujian Panda Home Furnishing Co., Ltd | 39.25 | 28.71
Fujian Senyi Kitchen Cabinet Co., Ltd | Fujian Senyi Kitchen Cabinet Co., Ltd | 39.25 | 28.71
Fuzhou Biquan Trading Co., Ltd | Biquan (Fujian) Group Co., Ltd | 39.25 | 28.71
Fuzhou CBM Import & Export Co., Ltd | Fuzhou CBM Import & Export Co., Ltd | 39.25 | 28.71
Fuzhou Desource Home Décor Co., Ltd | Fuzhou Desource Home Decor Co., Ltd | 39.25 | 28.71
FUZHOU LIMIN STONE PRODUCTS CO., LTD | Fuzhou YST Cabinet Co., Ltd | 39.25 | 28.71
FUZHOU MASTONE IMPORT & EXPORT CO., LTD | Fuzhou Yuansentai Cabinet Co., Ltd | 39.25 | 28.71
Fuzhou Minlian Wood Industry Co., Ltd | Fuzhou Minlian Wood Industry Co., Ltd | 39.25 | 28.71
FUZHOU SUNRISING HOME DECO MANUFACTURING CO., LTD | FUZHOU SUNRISING HOME DECO MANUFACTURING CO., LTD | 39.25 | 28.71
FUZHOU XINRUI CABINET CO., LTD | FUZHOU XINRUI CABINET CO., LTD | 39.25 | 28.71
Gaomi City Haitian Wooden Ware Co., Ltd | Gaomi City Haitian Wooden Ware Co., Ltd | 39.25 | 28.71
GAOMI HONGTAI HOME FURNITURE CO., LTD | GAOMI HONGTAI HOME FURNITURE CO., LTD | 39.25 | 28.71
Guangde Bozhong Trade Company, Ltd | Guangde Bozhong Trade Company, Ltd | 39.25 | 28.71
GUANGDONG CACAR KITCHEN TECHNOLOGY CO., LTD | GUANGDONG CACAR KITCHEN TECHNOLOGY CO., LTD | 39.25 | 28.71
Guangdong G-Top Import and Export Co., Ltd | Foshan Shunde Rongao Furniture CO., LTD | 39.25 | 28.71
Guangzhou Nuolande Import and Export Co., Ltd | Guangzhou Nuolande Import and Export Co., Ltd | 39.25 | 28.71
Haiyang Kunlun Wood Co., Ltd | Haiyang Kunlun Wood Co., Ltd | 39.25 | 28.71
Hangzhou Bestcraft Sanitary Equipments Co., Ltd | Hangzhou Bestcraft Sanitary Equipments Co., Ltd | 39.25 | 28.71
Hangzhou Entop Houseware Co., Ltd | Jinhua Aonika Sanitary Ware Co., Ltd | 39.25 | 28.71
Hangzhou Entop Houseware Co., Ltd | Hangzhou Bestcraft Sanitary Equipments Co., Ltd | 39.25 | 28.71
Hangzhou Hansen Sanitary Ware Co., Ltd | Hangzhou Hansen Sanitary Ware Co., Ltd | 39.25 | 28.71
Hangzhou Hoca Kitchen & Bath Products Co., Ltd | Hangzhou Hoca Kitchen & Bath Products Co., Ltd | 39.25 | 28.71
Hangzhou Home Dee Sanitary Ware Co., Ltd | Hangzhou Home Dee Sanitary Ware Co., Ltd | 39.25 | 28.71
Hangzhou Oulang Bathroom Equipment Co., Ltd | Hangzhou Oulang Bathroom Equipment Co., Ltd | 39.25 | 28.71
Hangzhou Royo Import & Export Co., Ltd | Jinhua Aonika Sanitary Ware Co., Ltd | 39.25 | 28.71
Hangzhou Royo Import & Export Co., Ltd | Hangzhou Yuxin Sanitary Ware Co., Ltd | 39.25 | 28.71
Hangzhou Royo Import & Export Co., Ltd | Hangzhou Fuyang Beautiful Sanitary Ware Co., Ltd | 39.25 | 28.71
Hangzhou Sunlight Sanitary Co., Ltd | Hangzhou Sunlight Sanitary Co., Ltd | 39.25 | 28.71
Hangzhou Weinuo Sanitary Ware Co., Ltd | PINGHU AIPA SANITARY WARE CO., LTD | 39.25 | 28.71
Hangzhou Weinuo Sanitary Ware Co., Ltd | HANGZHOU QILONG SANITARY WARE CO., LTD | 39.25 | 28.71
Hangzhou Xinhai Sanitary Ware Co., Ltd | Hangzhou Xinhai Sanitary Ware Co., Ltd | 39.25 | 28.71
Hangzhou Yewlong Import&Export Co., Ltd | Hangzhou Yewlong Industry Co., Ltd | 39.25 | 28.71
Hangzhou Zhuangyu Import & Export Co., Ltd | Hangzhou Zhuangyu Import & Export Co., Ltd | 39.25 | 28.71
Henan Aotin Home Furnishing Co., Ltd | Henan Aotin Home Furnishing Co., Ltd | 39.25 | 28.71
Heyond Cabinet Co., Ltd | Heyond Cabinet Co., Ltd | 39.25 | 28.71
Homestar Corporation | Homestar Corporation | 39.25 | 28.71
HONG KONG JIAN CHENG TRADING CO., LIMITED | ZHONGSHAN YAYUE FURNITURE CO., LTD | 39.25 | 28.71
Xiamen Honglei Imp.&Exp. Co., Ltd. also known as Honglei (Xiamen) Stone Co., Ltd | Changtai Guanjia Industry & Trade Company Co., Ltd | 39.25 | 28.71
Xiamen Honglei Imp.&Exp. Co., Ltd. also known as Honglei (Xiamen) Stone Co., Ltd | Zhangzhou Huihua Industry and Trade Co., Ltd | 39.25 | 28.71
Xiamen Honglei Imp.&Exp. Co., Ltd. also known as Honglei (Xiamen) Stone Co., Ltd | Fujian Xinanlong Wood Industry Co., Ltd | 39.25 | 28.71
Honsoar New Building Material Co., Ltd | Shandong Honsoar Cabinet Materials Co., Ltd | 39.25 | 28.71
Hua Yin Trading Development Co., Ltd of Jiangmen City | Jianfa Wooden Co., Ltd | 39.25 | 28.71
Hua Yin Trading Development Co., Ltd of Jiangmen City | Heshan Yingmei Cabinets Co., Ltd | 39.25 | 28.71
Hua Yin Trading Development Co., Ltd of Jiangmen City | Hesha Feiqiu Cabinet Co., Ltd | 39.25 | 28.71
Huimin Hanlong Furniture Co., Ltd | Huimin Hanlong Furniture Co., Ltd | 39.25 | 28.71
HUISEN FURNITURE (LONG NAN) CO., LTD. also known as HUISEN FURNITURE (LONGNAN) CO., LTD | HUISEN FURNITURE (LONG NAN) CO., LTD. also known as HUISEN FURNITURE (LONGNAN) CO., LTD | 39.25 | 28.71
HUIZHOU MANDARIN FURNITURE CO., LTD | HUIZHOU MANDARIN FURNITURE CO., LTD | 39.25 | 28.71
Jiang Su Rongxin Cabinets Ltd | Jiang Su Rongxin Cabinets Ltd | 39.25 | 28.71
Jiangmen Kinwai Furniture Decoration Co., Ltd | Jiangmen Kinwai Furniture Decoration Co., Ltd | 39.25 | 28.71
Jiangmen Kinwai International Furniture Co., Ltd | Jiangmen Kinwai International Furniture Co., Ltd | 39.25 | 28.71
Jiangsu Beichen Wood Co., Ltd | Jiangsu Beichen Wood Co., Ltd | 39.25 | 28.71
Jiangsu Meijun Intelligent Home Co., Ltd | Jiangsu Meijun Intelligent Home Co., Ltd | 39.25 | 28.71
Jiangsu Pusite Furniture Co., Ltd | Jiangsu Pusite Furniture Co., Ltd | 39.25 | 28.71
Jiangsu Roc Furniture Industrial Co., Ltd | Jiangsu Roc Furniture Industrial Co., Ltd | 39.25 | 28.71
JIANGSU SUNWELL CABINETRY CO., LTD | JIANGSU SUNWELL CABINETRY CO., LTD | 39.25 | 28.71
JIANGSU WEISEN HOUSEWARE CO., LTD | JIANGSU WEISEN HOUSEWARE CO., LTD | 39.25 | 28.71
Jiangsu Xiangsheng Bedtime Furniture Co., Ltd | Jiangsu Xiangsheng Bedtime Furniture Co., Ltd | 39.25 | 28.71
Jiayuan (Xiamen) Industrial Co., Ltd | Jiayuan (Xiamen) Industrial Co., Ltd | 39.25 | 28.71
JINJIANG PERFECT GENERATION IMP. & EXP. CO., LTD | Homebi Technology Co., LTD | 39.25 | 28.71
King's Group Furniture (Enterprises) Co., Ltd | Zhongshan King's Group Furniture (ENTERPRISES) Co., Ltd | 39.25 | 28.71
KM Cabinetry Co., Limited | Zhongshan KM Cabinetry Co., Ltd | 39.25 | 28.71
Kunshan Baiyulan Furniture Co., Ltd | Kunshan Baiyulan Furniture Co., Ltd | 39.25 | 28.71
Kunshan Home Right Trade Corporation | Kunshan Fangs Furniture Co., Ltd | 39.25 | 28.71
LIANYUNGANG SUN RISE TECHNOLOGY CO., LTD | LIANYUNGANG SUN RISE TECHNOLOGY CO., LTD | 39.25 | 28.71
Linshu Meibang Furniture Co., Ltd | Linshu Meibang Furniture Co., Ltd | 39.25 | 28.71
Linyi Bomei Furniture Co., Ltd | Linyi Bomei Furniture Co., Ltd | 39.25 | 28.7
LINYI BONN FLOORING MANUFACTURING CO., LTD | LINYI BONN FLOORING MANUFACTURING CO., LTD | 39.25 | 28.71
Linyi Kaipu Furniture Co., Ltd | Linyi Kaipu Furniture Co., Ltd | 39.25 | 28.71
Linyi Runkang Cabinet Co., Ltd | Linyi Runkang Cabinet Co., Ltd | 39.25 | 28.71
Liu Shu Woods Product (Huizhou) Co., Ltd also known as Liu Shu Wood Products Co., Ltd (trade name) and Liu Shu Woods Product Co., Ltd (trade name) | Liu Shu Woods Product (Huizhou) Co., Ltd | 39.25 | 28.71
Master Door & Cabinet Co., Ltd | Master Door & Cabinet Co., Ltd | 39.25 | 28.7
Masterwork Cabinetry Company Limited | Shandong Compete Wood Co., Ltd | 39.25 | 28.71
Masterwork Cabinetry Company Limited | Linyi Zhongsheng Jiaju Zhuangshi Co., Ltd | 39.25 | 28.71
MEILIN WOOD PRODUCTS(DALIAN)CO., LTD | MEILIN WOOD PRODUCTS(DALIAN)CO., LTD | 39.25 | 28.71
Minhou Beite Home Decor Co., Ltd | Minhou Beite Home Decor Co., Ltd | 39.25 | 28.71
MJB Supply (Dalian) Co., Ltd | Mulin City Baimiantong Linyeju Jisen Wood | 39.25 | 28.71
MOREWOOD CABINETRY CO., LTD | MOREWOOD CABINETRY CO., LTD | 39.25 | 28.71
Nanjing Kaylang Co., Ltd | Nanjing Kaylang Co., Ltd | 39.25 | 28.71
Nantong Aershin Cabinets Co., Ltd | Nantong Aershin Cabinets Co., Ltd | 39.25 | 28.71
Nantong Ouming Wood Co., Ltd. | Nantong Ouming Wood Co., Ltd. | 39.25 | 28.71
NANTONG YANGZI FURNITURE CO., LTD | NANTONG YANGZI FURNITURE CO., LTD | 39.25 | 28.71
NINGBO KINGWOOD FURNITURE CO., LTD | NINGBO KINGWOOD FURNITURE CO., LTD | 39.25 | 28.71
NINGBO ROVSA HOME FURNISHING CO., LTD | NINGBO ROVSA HOME FURNISHING CO., LTD | 39.25 | 28.71
Ojans Company Limited | Foshan Shunde Ojans Intelligent Sanitary Ware Co., Ltd | 39.25 | 28.71
Oppein Home Group Inc | Oppein Home Group Inc | 39.25 | 28.71
PIZHOU OUYME IMPORT & EXPORT TRADE CO., LTD | XUZHOU OUMEC WOOD-BASED PANEL CO., LTD | 39.25 | 28.71
Pneuma Asia Sourcing & Trading Co. LIMITED | Dalian Tianxin Home Product Co., Ltd | 39.25 | 28.71
Pneuma Asia Sourcing & Trading Co. LIMITED | Qingdao Haiyan Drouot Household Co., Ltd | 39.25 | 28.71
Putian Jinggong Furniture Co., Ltd | Putian Jinggong Furniture Co., Ltd | 39.25 | 28.71
Qingdao Coomex Sources Co., Ltd. also known as Coomex Sources Co., Ltd | Nantong Aershin Cabinets Co., Ltd | 39.25 | 28.71
Qingdao Haiyan Drouot Household Co., Ltd | Qingdao Haiyan Drouot Household Co., Ltd | 39.25 | 28.71
Qingdao Liangmu Hongye Co., Ltd | Qingdao Liangmu Hongye Co., Ltd | 39.25 | 28.71
Qingdao Liangmu Jinshan Woodwork Co., Ltd | Qingdao Liangmu Jinshan Woodwork Co., Ltd | 39.25 | 28.71
Qingdao Northriver Wooden Resource Industry & Trading Co., Ltd | Lankao Sanqiang Wooden Products Co., Ltd | 39.25 | 28.71
Qingdao Northriver Wooden Resource Industry & Trading Co., Ltd | Linyi Lanshan Chengxinli Woods Co., Ltd | 39.25 | 28.71
Qingdao Northriver Wooden Resource Industry & Trading Co., Ltd | Shouguang Shi Qifeng Woods Co., Ltd | 39.25 | 28.71
Qingdao Northriver Wooden Resource Industry & Trading Co., Ltd | Linyi Mingzhu Woods Co., Ltd | 39.25 | 28.71
Qingdao Northriver Wooden Resource Industry & Trading Co., Ltd | Yichun Senhai Woods Industry Co., Ltd | 39.25 | 28.71
Qingdao Northriver Wooden Resource Industry & Trading Co., Ltd | Linyi Jinde Arts & Crafts Co., Ltd | 39.25 | 28.71
Qingdao Northriver Wooden Resource Industry & Trading Co., Ltd | Qingdao Ruirong Woods Co., Ltd | 39.25 | 28.71
Qingdao Shousheng Industry Co., Ltd | Qingdao Shousheng Industry Co., Ltd | 39.25 | 28.71
Qingdao Yimei Wood Work Co., Ltd | Qingdao Yimei Wood Work Co., Ltd | 39.25 | 28.71
QINGDAOHONGXINCHENGDA WOOD INDUSTRY CO., LTD | QINGDAOHONGXINCHENGDA WOOD INDUSTRY CO., LTD | 39.25 | 28.71
QUFU XINYU FURNITURE CO., LTD | QUFU XINYU FURNITURE CO., LTD | 39.25 | 28.71
Ronbow Hong Kong Limited | Wuxi Yusheng Kitchen-Bathroom Equipment Co., Ltd | 39.25 | 28.71
Sagarit Bathroom Manufacturer Limited | Shouguang Fushi Wood Co., Ltd | 39.25 | 28.71
Sagarit Bathroom Manufacturer Limited | Zhangzhou Guohui Industrial & Trade Co., Ltd | 39.25 | 28.71
Sagarit Bathroom Manufacturer Limited | Qingdao Runpeng Wood Industrial Co., Ltd | 39.25 | 28.71
Sankok Arts Co., Ltd | Sankok Arts Co., Ltd | 39.25 | 28.71
Senke Manufacturing Company | Qindao Yimei Wood Work Co., Ltd | 39.25 | 28.71
Senke Manufacturing Company | Linyi Kaipu Furniture Co., Ltd | 39.25 | 28.71
Senke Manufacturing Company | Shandon Honsoar Cabinetry Co., Ltd | 39.25 | 28.71
Senke Manufacturing Company | Huimin Hanlong Furniture Co, Ltd | 39.25 | 28.71
Shandong Cubic Alpha Timber Co., Ltd | Shandong Cubic Alpha Timber Co., Ltd | 39.25 | 28.71
Shandong Fusheng Wood Co., Ltd | Shandong Fusheng Wood Co., Ltd | 39.25 | 28.71
Shandong Huanmei Wood Co., Ltd | Shandong Huanmei Wood Co., Ltd | 39.25 | 28.71
SHANDONG JINGYAO HOME DECORATION PRODUCTS CO., LTD | SHANDONG JINGYAO HOME DECORATION PRODUCTS CO., LTD | 39.25 | 28.71
Shandong Longsen Woods Co., Ltd | Shandong Longsen Woods Co., Ltd | 39.25 | 28.71
Shandong Sanfortune Home and Furniture Co., Ltd | Shandong Sanfortune Home and Furniture Co., Ltd | 39.25 | 28.7
Shanghai Aiwood Home Supplies Co., Ltd | Jiangsu Gangxing Kitchen Cabinet Co., Ltd | 39.25 | 28.71
Shanghai Aiwood Home Supplies Co., Ltd | Shanghai Homebase SanSheng Household Product Co., Ltd | 39.25 | 28.71
Shanghai Baiyulan Furniture Co., Ltd | Kunshan Baiyulan Furniture Co., Ltd | 39.25 | 28.71
Shanghai Beautystar Cabinetry Co., Ltd | Jiangsu Sunwell Cabinetry Co., Ltd | 39.25 | 28.71
Shanghai Beautystar Cabinetry Co., Ltd | Nantong Jiegao Furniture Co., Ltd | 39.25 | 28.71
Shanghai Jiang Feng Furniture Co., Ltd | Shanghai Jiang Feng Furniture Co., Ltd | 39.25 | 28.71
SHANGHAI LINE KING INTERNATIONAL TRADING CO., LTD | SHANGHAI YAZHI WOODEN INDUSTRY CO., LTD | 39.25 | 28.71
Shanghai Mebo Industry Co. Ltd | Shanghai Mebo Industry Co. Ltd | 39.25 | 28.71
Shanghai Qingzhou Woodenware Co., Ltd | Shanghai Qingzhou Woodenware Co., Ltd | 39.25 | 28.71
Shanghai S&M Trade Co., Ltd | Anhui GeLun Wood Industry Co., Ltd | 39.25 | 28.71
Shanghai S&M Trade Co., Ltd | Ning'an City Jiude Wood Co., Ltd | 39.25 | 28.71
Shanghai S&M Trade Co., Ltd | Muling City Bamiantong Forestry Bureau Jisen Wood Co., Ltd | 39.25 | 28.71
Shanghai S&M Trade Co., Ltd | Dalian Ruiyu Mountain Wood Co., Ltd | 39.25 | 28.71
Shanghai S&M Trade Co., Ltd | Linshu Meibang Furniture Co., Ltd | 39.25 | 28.71
Shanghai S&M Trade Co., Ltd | Jiamusi City Quanhong Wood Industry Co., Ltd | 39.25 | 28.71
Shanghai S&M Trade Co., Ltd | Kunshan Fangs Furniture Co., Ltd | 39.25 | 28.71
Shanghai S&M Trade Co., Ltd | Dalian Chunyao Wood Industry Co., Ltd | 39.25 | 28.71
Shanghai S&M Trade Co., Ltd | Anhui Juxin Wood Industry Co., Ltd | 39.25 | 28.71
Shanghai Wang Lei Industries—Taicang Branch | Shanghai Wang Lei Industries—Taicang Branch | 39.25 | 28.71
Shanghai Wen Bo Industries Co. Ltd | Shanghai Yinbo Manufacturing Co. Ltd | 39.25 | 28.71
Shanghai Wen Bo Industries Co. Ltd | Dalian Jiaye Wood Products Co., Ltd | 39.25 | 28.71
Shanghai Wen Bo Industries Co. Ltd | Shanghai Baiyulan Furniture Co., Ltd | 39.25 | 28.71
Shanghai Xietong (Group) Co., Ltd | Nantong Jiegao Furniture Co., Ltd | 39.25 | 28.71
Shanghai Xietong (Group) Co., Ltd | Jiangsu Senwei Smart Home Co., Ltd | 39.25 | 28.71
SHANGHAI ZIFENG INTERNATIONAL TRADING CO., LTD | SHANDONG GAINVAST WOODEN PRODUCTS CO., LTD | 39.25 | 28.71
SHANGHAI ZIFENG INTERNATIONAL TRADING CO., LTD | SHANGHAI WENYI WOODEN CO., LTD | 39.25 | 28.71
SHANGHAI ZIFENG INTERNATIONAL TRADING CO., LTD | NAN TONG DI LIN FURNITURE CO., LTD | 39.25 | 28.71
SHANGHAI ZIFENG INTERNATIONAL TRADING CO., LTD | JIANGSU YANAN WOODEN CO., LTD | 39.25 | 28.71
Sheen Lead International Trading (Shanghai)Co., Ltd | SHANGHAI RUIYING FURNITURE CO., LTD | 39.25 | 28.71
Shouguang Fushi Wood Co., Ltd | Shouguang Fushi Wood Co., Ltd | 39.25 | 28.71
Shouguang Honsoar Imp. & Exp. Trading Co., Ltd | Shouguang Honsoar Imp. & Exp. Trading Co., Ltd | 39.25 | 28.71
SHOUGUANG JIAXIU WOOD CO., LTD | SHOUGUANG JIAXIU WOOD CO., LTD | 39.25 | 28.71
SHOUGUANG JIAXIU WOOD CO., LTD | SHOUGUANG JIAXIU WOOD CO., LTD | 39.25 | 28.71
Shouguang Jinxiangyuan Home Furnishing Co., Ltd | Shouguang Jinxiangyuan Home Furnishing Co., Ltd | 39.25 | 28.71
Shouguang Sanyang Wood Industry Co., Ltd | Shouguang Sanyang Wood Industry Co., Ltd | 39.25 | 28.71
Silver Stone Group Co., Ltd | QINGDAO FAMILY CRAFTS CO., LTD | 39.25 | 28.71
Silver Stone Group Co., Ltd | QingDao XiuZhen Furniture Co., Ltd | 39.25 | 28.71
Smart Gift International | Anhui GeLun Wood Industry Co., Ltd | 39.25 | 28.71
Smart Gift International | Ning'an City Jiude Wood Co., Ltd | 39.25 | 28.71
Smart Gift International | Muling City Bamiantong Forestry Bureau Jisen Wood Co., Ltd | 39.25 | 28.71
Smart Gift International | Dalian Ruiyu Mountain Wood Co., Ltd | 39.25 | 28.71
Smart Gift International | Jiamusi City Quanhong Wood Industry Co., Ltd | 39.25 | 28.71
Smart Gift International | Dalian Chunyao Wood Industry Co., Ltd | 39.25 | 28.71
SUNCO TIMBER(KUNSHAN) CO., LTD | SUNCO TIMBER(KUNSHAN) CO., LTD | 39.25 | 28.71
Supree (Fuijian) Wood Co., Ltd | Supree (Fuijian) Wood Co., Ltd | 39.25 | 28.71
Supree (Fujian) Construction Materials Co., Ltd | Supree (Fujian) Construction Materials Co., Ltd | 39.25 | 28.71
SUZHOU BAOCHENG INDUSTRIES CO., LTD | WALLBEYOND (SHUYANG) HOME DECOR CO., LTD | 39.25 | 28.71
Suzhou Five Cubic Wood Co., Ltd | Suzhou Geda Office Equipment Manufacturing Co., Ltd | 39.25 | 28.71
Suzhou Oriental Dragon Import and Export Co., Ltd. also known as Suzhou Oriental Dragon Import and Export Corp., Ltd | Lingbi Xianghe Wood Co., Ltd | 39.25 | 28.71
Tai Yuan Trading Co., Ltd also known as Heshan Tai Yuan Trading Co., Ltd | Heshan Yingmei Cabinet Co., Ltd | 39.25 | 28.71
Taishan Changfa Wood Industry Co., Ltd | Taishan Changfa Wood Industry Co., Ltd | 39.25 | 28.71
TAISHAN HONGXIANG TRADING CO., LTD | Chang He Xing Wood Manufacturer Co., Ltd | 39.25 | 28.71
TAISHAN HONGXIANG TRADING CO., LTD | Heshan Yingmei Cabinets Co., Ltd | 39.25 | 28.71
TAISHAN HONGXIANG TRADING CO., LTD | Heshan Feiqiu Cabinet Co., Ltd | 39.25 | 28.71
TAISHAN HONGXIANG TRADING CO., LTD | Yuanwang Wood Product Factory Dajiang Taishan | 39.25 | 28.71
TAISHAN HONGXIANG TRADING CO., LTD | Can-Am Cabinet Ltd | 39.25 | 28.71
Taishan Hongzhou Cabinet Co., Ltd | Taishan Hongzhou Cabinet Co., Ltd | 39.25 | 28.71
Taishan Jiahong Trade Co., Ltd | Taishan Dajiang Town Dutou Wood Furniture Factory | 39.25 | 28.71
Taishan Jiahong Trade Co., Ltd | Foshan Nanhai Jinwei Cabinet Furniture Co., Ltd | 39.25 | 28.71
Taishan Jiahong Trade Co., Ltd | Taishan Huali Kitchen Cabinet Co., Ltd | 39.25 | 28.71
Taishan Jiahong Trade Co., Ltd | Taishan Empire Wood Co., Ltd | 39.25 | 28.71
TAISHAN OVERSEA TRADING COMPANY LTD | TAISHAN GANHUI STONE KITCHEN CO., LTD | 39.25 | 28.71
TAISHAN OVERSEA TRADING COMPANY LTD | Can-Am Cabinet Ltd | 39.25 | 28.71
TAISHAN OVERSEA TRADING COMPANY LTD | TAISHAN QUANMEI KITCHEN WARE CO., LTD | 39.25 | 28.71
TAISHAN OVERSEA TRADING COMPANY LTD | TAISHAN JIAFU CABINET CO., LTD | 39.25 | 28.71
TAISHAN OVERSEA TRADING COMPANY LTD | TAISHAN DAJIANG TOWN DUTOU FURNITURE FACTORY | 39.25 | 28.71
TAISHAN OVERSEA TRADING COMPANY LTD | Feiteng Kitchen Cabinets Taishan Corporation | 39.25 | 28.71
Taizhou Overseas Int'l Ltd | Zhejiang Royal Home Co., Ltd | 39.25 | 28.71
TANGSHAN BAOZHU FURNITURE CO., LTD | TANGSHAN BAOZHU FURNITURE CO., LTD | 39.25 | 28.71
Tech Forest Cabinetry Co., Ltd | Tech Forest Cabinetry Co., Ltd | 39.25 | 28.71
The Frame Manufacturing Co. Ltd | HUIZHOU DIWEIXIN JIATINGYONGPIN CO., LTD | 39.25 | 28.71
Top Goal International Group Ltd. (Hong Kong) | Dongguan City Top Goal Furniture Co., Ltd | 39.25 | 28.71
Tradewinds Furniture Ltd | Tradewinds Furniture Ltd | 39.25 | 28.71
Wa Fok Art Craft Furniture (MACAO) Co., Ltd | Zhongshan Huafu Art Craft Furniture Co., Ltd | 39.25 | 28.71
Weifang Fuxing Wood Co., Ltd | Weifang Fuxing Wood Co., Ltd | 39.25 | 28.71
WEIFANG KITCHINET CORPORATION | WEIFANG KITCHINET CORPORATION | 39.25 | 28.71
Weifang Lan Gu Wood Industry Co., Ltd | Weifang Lan Gu Wood Industry Co., Ltd | 39.25 | 28.71
Weifang Master Wood Industry Co., Ltd | Weifang Master Wood Industry Co., Ltd | 39.25 | 28.71
Weifang Yuanlin Woodenware Co., Ltd | Weifang Yuanlin Woodenware Co., Ltd | 39.25 | 28.71
Weihai Adornus Cabinetry Manufacturing Co., Ltd | Weihai Adornus Cabinetry Manufacturing Co., Ltd | 39.25 | 28.71
WEIHAI JARLIN CABINETRY MANUFACTURE CO., LTD | WEIHAI JARLIN CABINETRY MANUFACTURE CO., LTD | 39.25 | 28.71
Wellday International Company Limited also known as Dongguan Wellday Household Co., Ltd | Wellday International Company Limited also known as Dongguan Wellday Household Co., Ltd | 39.25 | 28.71
Wenzhou Youbo Industrial Co., Ltd | Wenzhou Youbo Industrial Co., Ltd | 39.25 | 28.71
Wuxi Yushea Furniture Co., Ltd | Wuxi Yushea Furniture Co., Ltd | 39.25 | 28.71
Wuxi Yusheng Kitchen-Bathroom Equipment Co., Ltd | Wuxi Yusheng Kitchen-Bathroom Equipment Co., Ltd | 39.25 | 28.71
Xiamen Adler Cabinetry Co., Ltd | Xiamen Adler Cabinetry Co., Ltd | 39.25 | 28.71
XIAMEN GOFOR STONE CO., LTD | KAICHENG (FUJIAN) KITCHEN CABINET CO., LTD | 39.25 | 28.71
XIAMEN GOLDEN HUANAN IMP. & EXP. CO., LTD | Changtai Guanjia Industrial Co., Ltd | 39.25 | 28.71
XIAMEN GOLDENHOME CO., LTD | XIAMEN GOLDENHOME CO., LTD | 39.25 | 28.71
XIAMEN KAICHENG TRADING LIMITED COMPANY | KAICHENG (FUJIAN) KITCHEN CABINET CO., LTD | 39.25 | 28.71
Xiamen Sintop Display Fixtures Co., Ltd | Xiamen Sintop Display Fixtures Co., Ltd | 39.25 | 28.71
XINGZHI INTERNATIONAL TRADE LIMITED | XUZHOU YIHE WOOD CO., LTD | 39.25 | 28.71
XUZHOU JIA LI DUO IMPORT&EXPORT CO., LTD | XUZHOU OUMEC WOOD-BASED PANEL CO., LTD | 39.25 | 28.71
XUZHOU YIHE WOOD CO., LTD | XUZHOU YIHE WOOD CO., LTD | 39.25 | 28.71
YEKALON INDUSTRY, INC | DONGGUAN TODA FURNITURE CO., LTD | 39.25 | 28.71
YEKALON INDUSTRY, INC | GUANGZHOUSHI BAISEN DECORATIVE MATERIALS COMPANY LIMITED | 39.25 | 28.71
YEKALON INDUSTRY, INC | DONGGUAN FANYANUO FURNITURE CO., LTD | 39.25 | 28.71
YEKALON INDUSTRY, INC | DONGGUANSHI ANKE BUILDING MATERIALS CO., LTD | 39.25 | 28.71
YEKALON INDUSTRY, INC | Oriental Chic Furniture Company Limited | 39.25 | 28.71
YEKALON INDUSTRY, INC | DONGGUAN FRANCISS FURNITURE CO., LTD | 39.25 | 28.71
YEKALON INDUSTRY, INC | SHANGHAI YUANYANG WOODEN CO., LTD | 39.25 | 28.71
Yi Sen Wood Industry Limited Company of Ning An City | Yi Sen Wood Industry Limited Company of Ning An City | 39.25 | 28.71
Yichun Dongmeng Wood Co., Ltd | Yichun Dongmeng Wood Co., Ltd | 39.25 | 28.71
Yichun Dongmeng Wood Co., Ltd | Qingdao Dimei Wood Co., Ltd | 39.25 | 28.71
Yichun Sunshine Wood Products Co., Ltd | Yichun Sunshine Wood Products Co., Ltd | 39.25 | 28.71
Yixing Pengjia Cabinetry Co. Ltd | Yixing Pengjia Cabinetry Co. Ltd | 39.25 | 28.71
Zhangjiagang Daye Hotel Furniture Co., Ltd | Zhangjiagang Daye Hotel Furniture Co., Ltd | 39.25 | 28.71
ZHANGJIAGANG PRO-FIXTURE CO., LTD | Zhangjiagang Yuanjiahe Home Furniture Co., Ltd | 39.25 | 28.71
ZHANGZHOU CITY XIN JIA HUA FURNITURE CO., LTD | ZHANGZHOU CITY XIN JIA HUA FURNITURE CO., LTD | 39.25 | 28.71
Zhangzhou Guohui Industrial & Trade Co., Ltd | Zhangzhou Guohui Industrial & Trade Co., Ltd | 39.25 | 28.71
Zhangzhou OCA Furniture Co., Ltd | Zhangzhou OCA Furniture Co., Ltd | 39.25 | 28.71
Zhaoqing Centech Decorative Material Company Ltd | Zhaoqing Centech Decorative Material Company Ltd | 39.25 | 28.71
Zhejiang Jindi Holding Group Co., Ltd | Zhejiang Jindi Holding Group Co., Ltd | 39.25 | 28.71
Zhong Shan Shi Yicheng Furniture & Craftwork Co., Ltd | Zhong Shan Shi Yicheng Furniture & Craftwork Co., Ltd | 39.25 | 28.71
Zhong Shan Yue Qin Imp. & Exp. Co., Ltd | Zhongshan Jinpeng Furniture Co., Ltd | 39.25 | 28.71
Zhongshan City Shenwan Meiting Furniture Factory | Zhongshan City Shenwan Meiting Furniture Factory | 39.25 | 28.71
Zhongshan Fookyik Furniture Co., Ltd | Zhongshan Fookyik Furniture Co., Ltd | 39.25 | 28.71
ZHONGSHAN GAINWELL FURNITURE CO., LTD | ZHONGSHAN GAINWELL FURNITURE CO., LTD | 39.25 | 28.71
Zhongshan Guanda Furniture Manufacturing Co., Ltd also known as Guanda Furniture Co., Ltd | Zhongshan Guanda Furniture Manufacturing Co., Ltd | 39.25 | 28.71
ZHONGSHAN HENGFU FURNITURE COMPANY LIMITED | ZHONGSHAN HENGFU FURNITURE COMPANY LIMITED | 39.25 | 28.71
Zhongshan King's Group Furniture (ENTERPRISES) Co., Ltd | Zhongshan King's Group Furniture (ENTERPRISES) Co., Ltd | 39.25 | 28.71
Zhoushan For-strong Wood Co., Ltd | Zhoushan For-strong Wood Co., Ltd | 39.25 | 28.71
Zhoushan For-strong Wood Co., Ltd | Shanghai Wanmuda Furniture Co., Ltd | 39.25 | 28.71
Zhucheng Tonghe Woodworks Co., ltd | Zhucheng Tonghe Woodworks Co., ltd | 39.25 | 28.71
Zhuhai Seagull Kitchen and Bath Products Co., Ltd | Zhuhai Seagull Kitchen and Bath Products Co., Ltd | 39.25 | 28.71
ZIEL INTERNATIONAL CO., LIMITED | DONGGUAN FANG CHENG FURNITURE LTD | 39.25 | 28.71
ZIEL INTERNATIONAL CO., LIMITED | ZhongShan PRO-YEARN Crafts Product Co., Ltd | 39.25 | 28.71
ZIEL INTERNATIONAL CO., LIMITED | FUJIAN NEWMARK INDUSTRIAL CO., LTD | 39.25 | 28.71
ZIEL INTERNATIONAL CO., LIMITED | Fuzhou Zhonghe Houseware CO., LTD | 39.25 | 28.71
ZIEL INTERNATIONAL CO., LIMITED | MING LIANG FURNITURE PRODUCT CO., LTD | 39.25 | 28.71
ZIEL INTERNATIONAL CO., LIMITED | XIANJU JUNYANG HOUSEHOLD PRODUCTS CO., LTD | 39.25 | 28.71
ZIEL INTERNATIONAL CO., LIMITED | DongGuan HeTai Homewares CO., LTD | 39.25 | 28.71
ZIEL INTERNATIONAL CO., LIMITED | CHENG TONG HARDWARE RPODUCT LTD | 39.25 | 28.71
ZIEL INTERNATIONAL CO., LIMITED | Nantong Jon Ergonomic office Co., Ltd | 39.25 | 28.71
China-Wide Entity ⁹ |  | 262.18 | 251.64

Suspension of Liquidation

In accordance with section 733(d)(2)⁹ of the Act, Commerce will direct U.S. Customs and Border Protection (CBP) to suspend liquidation of entries of subject merchandise as described in Appendix I, entered, or withdrawn from warehouse, for consumption on or after the date of publication of this notice in the Federal Register, as discussed below.

⁹ Commerce preliminarily determined that BRENTRIDGE HOLDING CO., LTD., Harbin Hongsen Wood Co., Ltd., SAICG International Trading Co., Ltd, Shanghai East Best Foreign Trade Co., Ltd., SHANGHAI TIMBER IMPORT & EXPORT CORP., and ZHONG SHAN KING YUANDUN WOOD PRODUCTS CO., LTD. also known as CHIN-SHU WOODEN LTD each failed to establish their eligibility for a separate rate and, therefore, we preliminarily determined that these companies are part of the China-wide entity. See Preliminary Decision Memorandum.

Further, pursuant to section 733(d)(1)(B) of the Act and 19 CFR 351.205(d), Commerce will instruct CBP to require a cash deposit equal to the estimated weighted average amount by which normal value exceeds U.S. price, as indicated in the chart above as follows: (1) For the producer/exporter combinations listed in the table above, the cash deposit rate is equal to the estimated weighted-average dumping margin listed for that combination in the table; (2) for all combinations of Chinese producers/exporters of merchandise under consideration that have not established eligibility for their own separate rates, the cash deposit rate will be equal to the estimated weighted-average dumping margin established for the China-wide entity; and (3) for all third-country exporters of merchandise under consideration not listed in the table above, the cash deposit rate is the cash deposit rate applicable to the Chinese producer/exporter combination (or the China-wide entity) that supplied that third-country exporter.

To determine the cash deposit rate, Commerce normally adjusts the estimated weighted-average dumping margin by the amount of domestic subsidy pass-through and export subsidies determined in a companion countervailing duty (CVD) proceeding when CVD provisional measures are in effect. Accordingly, Commerce has made a preliminary affirmative determination for an export subsidy adjustment; however, Commerce has not made a preliminary affirmative determination for a domestic subsidy pass-through adjustment in this investigation.¹⁰ Commerce has offset the calculated estimated weighted-average dumping margin by the appropriate rate(s). Any such adjusted rates may be found in the chart of estimated weighted-average dumping margins in the Preliminary Determination section above.

¹⁰ See sections titled, “Adjustment Under Section 777A(F) of the Act” and “Adjustment to Cash Deposit Rate for Export Subsidies” in the Preliminary Decision Memorandum.

Should provisional measures in the companion CVD investigation expire prior to the expiration of provisional measures in this LTFV investigation, Commerce will direct CBP to begin collecting cash deposits at a rate equal to the estimated weighted-average dumping margins calculated in this preliminary determination unadjusted for the export subsidies at the time the CVD provisional measures expire.

These suspension of liquidation instructions will remain in effect until further notice.

Disclosure

Commerce intends to disclose to interested parties the calculations performed in connection with this preliminary determination within five days of its public announcement or, if there is no public announcement, within five days of the date of publication of this notice in the Federal Register, in accordance with 19 CFR 351.224(b).

Verification

As provided in section 782(i)(1) of the Act, Commerce intends to verify certain information relied upon in making its final determination.

Public Comment

Case briefs or other written comments may be submitted to the Assistant Secretary for Enforcement and Compliance no later than seven days after the date on which the last final verification report is issued in this investigation. Rebuttal briefs, limited to issues raised in case briefs, may be submitted no later than five days after the deadline date for case briefs.¹¹ Pursuant to 19 CFR 351.309(c)(2) and (d)(2), parties who submit case briefs or rebuttal briefs in this investigation are encouraged to submit with each argument: (1) A statement of the issue; (2) a brief summary of the argument; and (3) a table of authorities.

¹¹ See 19 CFR 351.309; see also 19 CFR 351.303 (for general filing requirements).

Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants, whether any participant is a foreign national, and a list of the issues to be discussed. If a request for a hearing is made, Commerce intends to hold the hearing at the U.S. Department of Commerce, 1401 Constitution Avenue NW, Washington, DC, 20230, at a time and date to be determined. Parties should confirm by telephone the date, time, and location of the hearing two days before the scheduled date.

Postponement of Final Determination and Extension of Provisional Measures

Section 735(a)(2) of the Act provides that a final determination may be postponed until not later than 135 days after the date of the publication of the preliminary determination if, in the event of an affirmative preliminary determination, a request for such postponement is made by exporters who account for a significant proportion of exports of the subject merchandise, or in the event of a negative preliminary determination, a request for such postponement is made by the petitioners. Pursuant to 19 CFR 351.210(e)(2), Commerce requires that requests by respondents for postponement of a final antidumping determination be accompanied by a request for extension of provisional measures from a four-month period to a period not more than six months in duration.

Pursuant to 19 CFR 351.210(e), The Ancientree Cabinet Co., Ltd., Dalian Meisen Woodworking Co., Ltd., and Rizhao Foremost Woodwork Manufacturing Company Ltd. requested that Commerce postpone the final determination and that provisional measures be extended to a period not to exceed six months.¹² In accordance with section 735(a)(2)(A) of the Act and 19 CFR 351.210(b)(2)(ii), because (1) the preliminary determination is affirmative; (2) the requesting exporters account for a significant proportion of exports of the subject merchandise; and (3) no compelling reasons for denial exist, Commerce is postponing the final determination and extending the provisional measures from a four-month period to a period not greater than six months. Accordingly, Commerce's final determination will be issued no later than 135 days after the date of publication of this preliminary determination.

¹² See Letter from The Ancientree Cabinet Co., Ltd., “Wooden Cabinets and Vanities from China: Ancientree Request to Extend Final Determination,” dated September 13, 2019; see also Letter from Dalian Meisen Woodworking Co., Ltd., “Wooden Cabinets and Vanities from the People's Republic of China: Request for Postponement of the Final Determination,” dated September 12, 2019; Letter from Rizhao Foremost Woodwork Manufacturing Company Ltd., “Wooden Cabinets and Vanities and Components Thereof from the People's Republic of China: Request to Postpone Final Determination and Extend Provisional Measures,” dated September 17, 2019.

International Trade Commission Notification

In accordance with section 733(f) of the Act, Commerce will notify the International Trade Commission (ITC) of its preliminary determination of sales at LTFV. If the final determination is affirmative, the ITC will determine before the later of 120 days after the date of this preliminary determination or 45 days after the final determination whether these imports of the subject merchandise are materially injuring, or threaten material injury to, the U.S. industry.

Notification to Interested Parties

This determination is issued and published in accordance with sections 733(f) and 777(i)(1) of the Act and 19 CFR 351.205(c).

Dated: October 2, 2019.
P. Lee Smith,
Deputy Assistant Secretary for Policy and Negotiations, Enforcement and Compliance.

Appendix I

Scope of the Investigation

The merchandise subject to this investigation consists of wooden cabinets and vanities that are for permanent installation (including floor mounted, wall mounted, ceiling hung or by attachment of plumbing), and wooden components thereof. Wooden cabinets and vanities and wooden components are made substantially of wood products, including solid wood and engineered wood products (including those made from wood particles, fibers, or other wooden materials such as plywood, strand board, block board, particle board, or fiberboard), or bamboo. Wooden cabinets and vanities consist of a cabinet box (which typically includes a top, bottom, sides, back, base blockers, ends/end panels, stretcher rails, toe kicks, and/or shelves) and may or may not include a frame, door, drawers and/or shelves. Subject merchandise includes wooden cabinets and vanities with or without wood veneers, wood, paper or other overlays, or laminates, with or without non-wood components or trim such as metal, marble, glass, plastic, or other resins, whether or not surface finished or unfinished, and whether or not completed.

Wooden cabinets and vanities are covered by the investigation whether or not they are imported attached to, or in conjunction with, faucets, metal plumbing, sinks and/or sink bowls, or countertops. If wooden cabinets or vanities are imported attached to, or in conjunction with, such merchandise, only the wooden cabinet or vanity is covered by the scope.

Subject merchandise includes the following wooden component parts of cabinets and vanities: (1) Wooden cabinet and vanity frames (2) wooden cabinet and vanity boxes (which typically include a top, bottom, sides, back, base blockers, ends/end panels, stretcher rails, toe kicks, and/or shelves), (3) wooden cabinet or vanity doors, (4) wooden cabinet or vanity drawers and drawer components (which typically include sides, backs, bottoms, and faces), (5) back panels and end panels, (6) and desks, shelves, and tables that are attached to or incorporated in the subject merchandise.

Subject merchandise includes all unassembled, assembled and/or “ready to assemble” (RTA) wooden cabinets and vanities, also commonly known as “flat packs,” except to the extent such merchandise is already covered by the scope of antidumping and countervailing duty orders on Hardwood Plywood from the People's Republic of China. See Certain Hardwood Plywood Products from the People's Republic of China: Amended Final Determination of Sales at Less Than Fair Value, and Antidumping Duty Order, 83 FR 504 (January 4, 2018); Certain Hardwood Plywood Products from the People's Republic of China: Countervailing Duty Order, 83 FR 513 (January 4, 2018). RTA wooden cabinets and vanities are defined as cabinets or vanities packaged so that at the time of importation they may include: (1) Wooden components required to assemble a cabinet or vanity (including drawer faces and doors); and (2) parts (e.g., screws, washers, dowels, nails, handles, knobs, adhesive glues) required to assemble a cabinet or vanity. RTAs may enter the United States in one or in multiple packages.

Subject merchandise also includes wooden cabinets and vanities and in-scope components that have been further processed in a third country, including but not limited to one or more of the following: Trimming, cutting, notching, punching, drilling, painting, staining, finishing, assembly, or any other processing that would not otherwise remove the merchandise from the scope of the investigation if performed in the country of manufacture of the in-scope product.

Excluded from the scope of this investigation, if entered separate from a wooden cabinet or vanity are:

(1) Aftermarket accessory items which may be added to or installed into an interior of a cabinet and which are not considered a structural or core component of a wooden cabinet or vanity. Aftermarket accessory items may be made of wood, metal, plastic, composite material, or a combination thereof that can be inserted into a cabinet and which are utilized in the function of organization/accessibility on the interior of a cabinet; and include:

• Inserts or dividers which are placed into drawer boxes with the purpose of organizing or dividing the internal portion of the drawer into multiple areas for the purpose of containing smaller items such as cutlery, utensils, bathroom essentials, etc.

• Round or oblong inserts that rotate internally in a cabinet for the purpose of accessibility to foodstuffs, dishware, general supplies, etc.

(2) Solid wooden accessories including corbels and rosettes, which serve the primary purpose of decoration and personalization.

(3) Non-wooden cabinet hardware components including metal hinges, brackets, catches, locks, drawer slides, fasteners (nails, screws, tacks, staples), handles, and knobs.

(4) Medicine cabinets that meet all of the following five criteria are excluded from the scope: (1) Wall mounted; (2) assembled at the time of entry into the United States; (3) contain one or more mirrors; (4) be packaged for retail sale at time of entry; and (5) have a maximum depth of seven inches.

Also excluded from the scope of this investigation are:

(1) All products covered by the scope of the antidumping duty order on Wooden Bedroom Furniture from the People's Republic of China. See Notice of Amended Final Determination of Sales at Less Than Fair Value and Antidumping Duty Order: Wooden Bedroom Furniture from the People's Republic of China, 70 FR 329 (January 4, 2005).

(2) All products covered by the scope of the antidumping and countervailing duty orders on Hardwood Plywood from the People's Republic of China. See Certain Hardwood Plywood Products from the People's Republic of China: Amended Final Determination of Sales at Less Than Fair Value, and Antidumping Duty Order, 83 FR 504 (January 4, 2018); Certain Hardwood Plywood Products from the People's Republic of China: Countervailing Duty Order, 83 FR. 513 (January 4, 2018).

Imports of subject merchandise are classified under Harmonized Tariff Schedule of the United States (HTSUS) statistical numbers 9403.40.9060 and 9403.60.8081. The subject component parts of wooden cabinets and vanities may be entered into the United States under HTSUS statistical number 9403.90.7080. Although the HTSUS subheadings are provided for convenience and customs purposes, the written description of the scope of this investigation is dispositive.

Appendix II

List of Topics Discussed in the Preliminary Decision Memorandum

I. Summary

II. Background

III. Period of Investigation

IV. Scope Comments

V. Product Characteristics

VI. Selection of Respondents

VII. Determination Not to Select Wen Bo As A Voluntary Respondent

VIII. Discussion of the Methodology

IX. Currency Conversion

X. Adjustment Under Section 777(A)(f) of the Act

XI. Adjustments to Cash Deposit Rates for Export Subsidies

XII. Recommendation

[FR Doc. 2019-21998 Filed 10-8-19; 8:45 am]

BILLING CODE 3510-DS-P